DEPARTMENT OF THE INTERIOR

Bureau of Land Management

[CO-200-1220-PA]

Final Supplementary Rules for Public Lands in Park County, Colorado: Guffey Gorge/Guffey Gulch

AGENCY: Bureau of Land Management, Interior.

ACTION: Notice of final supplementary rules.

SUMMARY: The Bureau of Land Management (BLM) Royal Gorge Field Office is issuing supplementary rules to regulate conduct on specific public lands within Park County, Colorado. The rules apply to the public lands called Guffey Gorge, also known as Guffey Gulch. BLM has determined these rules necessary to protect the area's natural resources and to provide for public health and safe public recreation.

DATES: Effective Date: The rules are effective 30 days after the date of publication in the Federal Register.

ADDRESSES: Bureau of Land Management, Royal Gorge Field Office, 3170 East Main Street, Cañon City, Colorado 81212. You may contact us by e-mail at ken_smith@blm.gov.

FOR FURTHER INFORMATION CONTACT: Roy L. Masinton, Field Manager, or Leah Quesenberry, Outdoor Recreation Planner, Royal Gorge Field Office, at the address listed above or by telephone at 719-269-8500. Individuals who use a telecommunications device for the deaf (TDD) may contact them individually through the Federal Information Relay Service at 1-800/877-8339, 24 hours a day, seven days a week.

SUPPLEMENTARY INFORMATION:

I. Background

II. Discussion of the Supplementary Rules

III. Procedural Matters

I. Background

Guffey Gorge/Guffey Gulch is a small tract (80 acres) of public land in Park County, Colorado. It is surrounded by private land with Park County Road 102 providing legal public access. Until five years ago, recreational use of this area was light, and the area was used primarily by local residents for picnicking, hiking, and swimming. Recreational use of the area has increased significantly over the past five years, resulting in resource damage, user conflicts, and safety hazards for visitors and surrounding private landowners.

II. Discussion of Supplementary Rules

These supplementary rules apply to approximately 80 acres of public lands known as Guffey Gorge, identified as follows:

Park County, Colorado, Sixth Principal Meridian

T. 15 S., R. 71 W.

Section 4: SE¼SE¼ Section 9: NE¼NE¼

These rules are needed to address significant public safety concerns and resource protection issues resulting from increased public use and unsafe user conduct on public lands known as Guffey Gorge. The authority for these supplementary rules is set forth at section 303 of the Federal Land Policy and Management Act, 43 U.S.C. 1740, and 43 CFR 8365.1-6. This notice, with a detailed map, will be posted at the Royal Gorge Field Office.

The proposed supplementary rules were published in the Federal Register on November 9, 2005 (70 FR 68080). We received seven letters of comment on the proposed supplementary rules. Each letter expressed support for the proposed supplementary rules. One letter expressed overall support for the rules but suggested allowing overnight camping on the forested uplands north of the gorge. We believe that this would confuse the public, direct the public into an area that is immediately adjacent to a large area of private land (leading to trespass), and unduly complicate enforcement of the day use only designation; therefore, we publish the rules unchanged as final supplementary rules.

III. Procedural Matters

Executive Order 12866, Regulatory Planning and Review

These supplementary rules are not a significant regulatory action and are not subject to review by Office of Management and Budget under Executive Order 12866. These supplementary rules will not have an annual effect of $100 million or more on the economy. They will not adversely affect in a material way the economy, productivity, competition, jobs, the environment, public health or safety, or state, local, or tribal governments or communities. They will not create a serious inconsistency or otherwise interfere with an action taken or planned by another agency. These supplementary rules do not materially alter the budgetary effects of entitlements, grants, user fees, or loan programs or the rights or obligations of their recipients; nor do they raise novel legal or policy issues. They merely establish rules of conduct for public use of a limited area of public lands in order to protect natural resources and public health and safety.

National Environmental Policy Act

BLM has prepared an environmental assessment (EA) and has found that these supplementary rules would not constitute a major Federal action significantly affecting the quality of the human environment under section 102(2)(C) of the National Environmental Policy Act of 1969 (NEPA), 42 U.S.C. 4332(2)(C). The supplementary rules would merely establish rules of conduct for public use of a limited area of public lands in order to protect natural resources and public health and safety. Although some uses, such as camping, would be prohibited in the area, the area would still be open to other recreation uses. A detailed statement under NEPA is not required. BLM has placed the EA and Finding of No Significant Impact (FONSI) on file in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These supplementary rules should have little effect on business, organizational, or governmental entities of whatever size. They merely would impose reasonable restrictions on certain recreational activities on certain public lands to protect natural resources, the environment, human health, and safety. Therefore, BLM has determined under the RFA that these supplementary rules would not have a significant economic impact on a substantial number of small entities.

Small Business Regulatory Enforcement Fairness Act (SBREFA)

These supplementary rules are not a “major rule” as defined at 5 U.S.C. 804(2). They would not result in an annual effect on the economy of $100 million or more, in a major increase in costs or prices, or in significant adverse effects on competition, employment, investment, productivity, innovation, or on the ability of United States-based enterprises to compete with foreign-based enterprises in domestic and export markets. They merely would impose reasonable restrictions on certain recreational activities on certain public lands to protect natural resources, the environment, human health, and safety.

Unfunded Mandates Reform Act

These supplementary rules do not impose an unfunded mandate on state, local, or tribal governments, in the aggregate, or the private sector, of more than $100 million in any one year; nor do these supplementary rules have a significant or unique effect on small governments. They would merely impose reasonable restrictions on certain recreational activities on certain public lands to protect natural resources and the environment, human health, and safety. Therefore, BLM is not required to prepare a statement containing the information required by the Unfunded Mandates Reform Act at 2 U.S.C. 1532.

Executive Order 12630, Governmental Actions and Interference With Constitutionally Protected Property Rights (Takings)

The supplementary rules are not a government action capable of interfering with constitutionally protected property rights. The reasonable restrictions that would be imposed by these supplementary rules would not deprive anyone of property or interfere with anyone's property rights. Therefore, the Department of the Interior has determined that the rule would not cause a taking of private property or require further discussion of takings implications under this Executive Order.

Executive Order 13132, Federalism

The supplementary rules will not have a substantial direct effect on the states, on the relationship between the national government and the states, or on the distribution of power and responsibilities among the various levels of government. The shooting restrictions in the supplementary rules do not apply to hunting with a state hunting license. Therefore, in accordance with Executive Order 13132, BLM has determined that the supplementary rules do not have sufficient Federalism implications to warrant preparation of a Federalism Assessment.

Executive Order 12988, Civil Justice Reform

Under Executive Order 12988, the Office of the Solicitor has determined that these supplementary rules would not unduly burden the judicial system and that the requirements of sections 3(a) and 3(b)(2) of the Order are met.

Executive Order 13175, Consultation and Coordination With Indian Tribal Governments

In accordance with Executive Order 13175, we have found that these supplementary rules do not contain policies that have tribal implications. As such, no duties under Executive Order 13175 are required.

Executive Order 13211, Actions Concerning Regulations That Significantly Affect Energy Supply, Distribution, or Use

In accordance with Executive Order 13211, BLM has determined that the supplementary rules are not significant energy actions. The rules are not likely to have a significant adverse effect on energy supply, distribution, or use, including any shortfall in supply or price increase, and should have no substantial effect on fuel consumption.

Paperwork Reduction Act

These supplementary rules do not contain information collection requirements that the Office of Management and Budget must approve under the Paperwork Reduction Act of 1995, 44 U.S.C. 3501 et seq.

Author

The principal author of these supplementary rules is Leah Quesenberry, Outdoor Recreation Planner, Royal Gorge Field Office, Bureau of Land Management.

Supplementary Rules for Guffey Gorge

The Royal Gorge Field Office, Colorado, issues these supplementary rules under the authority of the Federal Land Policy and Management Act (FLPMA), 43 U.S.C. 1740, and 43 CFR 8365.1-6. Enforcement authority for these supplementary rules on the public lands within the Guffey Gorge area is found in FLPMA, 43 U.S.C. 1733, and 43 CFR 8360.0-7.

These supplementary rules apply to approximately 80 acres of public lands known as Guffey Gorge, identified as follows:

Park County, Colorado, Sixth Principal Meridian

T. 15 S., R. 71 W.

Section 4: SE¼SE¼ Section 9: NE¼NE¼

Rules

Guffey Gorge is designated as a day-use only area. You must observe the following supplementary rules when you are present there:

1. No person or persons shall enter or be upon these lands between the hours of sunset and sunrise.

2. No person or persons shall have any type of fire except in a mechanical stove or other appliance fueled by gas, and equipped with a valve that allows the operator to turn the flame on and off.

3. No person or persons shall bring or possess glass containers.

4. No person or persons shall possess or discharge any fireworks.

5. No person or persons shall discharge a firearm of any kind, including those used for target shooting or paintball. Licensed hunters in legitimate pursuit of game during the proper season with appropriate firearms, as defined by the Colorado Division of Wildlife, are exempt from this rule.

6. All persons using these public lands shall keep the area free of trash, litter, and debris during the period of occupancy and shall remove all personal equipment upon departure.

Penalties: Under section 303(a) of the Federal Land Policy and Management Act of 1976, 43 U.S.C. 1733(a), and the Sentencing Reform Act of 1984, as amended, 18 U.S.C. 3571, if you violate any of these supplementary rules on public lands within the boundaries established in the rules, you may be tried before a United States Magistrate and fined no more than $100,000 or imprisoned for no more than 12 months, or both.

Sally Wisely,
State Director, Colorado State Office.

[FR Doc. 06-2939 Filed 3-27-06; 8:45 am]

BILLING CODE 4310-JB-P